DEPARTMENT OF TRANSPORTATION

Federal Motor Carrier Safety Administration

[Docket No. FMCSA-2019-0033]

Qualification of Drivers; Exemption Applications; Epilepsy and Seizure Disorders

AGENCY: Federal Motor Carrier Safety Administration (FMCSA), DOT.

ACTION: Notice of applications for exemption; request for comments; correction.

SUMMARY: In a notice of applications for exemption; request for comments published in the Federal Register on August 28, 2019, FMCSA announced receipt of applications from five individuals for an exemption from the prohibition in the Federal Motor Carrier Safety Regulations (FMCSRs) against persons with a clinical diagnosis of epilepsy or any other condition that is likely to cause a loss of consciousness or any loss of ability to control a commercial motor vehicle to drive in interstate commerce. The notice contained an error in the Addresses and Supplementary Information sections.

DATES: Comments on the August 28, 2019, notice must be received on or before September 27, 2019.

FOR FURTHER INFORMATION CONTACT: Ms. Christine A. Hydock, Chief, Medical Programs Division, Room W64-224, Federal Motor Carrier Safety Administration, 1200 New Jersey Avenue SE, Washington, DC 20590-0001; (202) 366-4001; fmcsamedical@dot.gov.

SUPPLEMENTARY INFORMATION: The August 28, 2019 (84 FR 45205), notice seeking public comment on the applications from five individuals, is corrected as follows:

1. On page 45205, in the first column, the docket number reference “FMCSA-2019-0333” is corrected to read “FMCSA-2019-0033.”

2. On page 45205, in the second column, the docket number reference “FMCSA-2019-0333” is corrected to read “FMCSA-2019-0033.”

3. On page 45205, in the third column, the docket number reference “FMCSA-2019-0333” is corrected to read “FMCSA-2019-0033.”

Issued under authority delegated in 49 CFR 1.87 on: August 29, 2019.
Larry W. Minor,
Associate Administrator for Policy.

[FR Doc. 2019-19284 Filed 9-5-19; 8:45 am]

BILLING CODE 4910-EX-P